Proclamation 7761 of March 5, 2004

Women's History Month, 2004

By the President of the United States of America

A Proclamation

During Women's History Month, we celebrate the many accomplishments of our Nation's women.

Women are leaders in American business, government, law, science, medicine, the arts, education, and many other fields. As mothers, sisters, and daughters, they bring compassion and integrity to our communities and help to teach our children the values that make our country great.

Women today are following in the footsteps of pioneers such as Sarah Pierce, Emma Willard, Catherine Beecher, and Mary Lyon, who helped open the doors to higher education for women in our country. Their vision and determination changed America forever. Women today also join a long tradition of defending our Nation. During the Revolutionary War, Margaret Cochran Corbin fought as a gunner and was severely wounded at the battle of Fort Washington. Today, more than 200,000 women are serving in our Nation's Armed Forces and working to defend America and advance peace and freedom. We are grateful for their sacrifice and for the military families that support them.

This month, we celebrate the many ways women strengthen and enrich America.

NOW, THEREFORE, I, GEORGE W. BUSH, President of the United States of America, by virtue of the authority vested in me by the Constitution and laws of the United States, do hereby proclaim March 2004 as Women's History Month. I call upon all Americans to observe this month with appropriate ceremonies and activities.

IN WITNESS WHEREOF, I have hereunto set my hand this fifth day of March, in the year of our Lord two thousand four, and of the Independence of the United States of America the two hundred and twenty-eighth.

B

[FR Doc. 04-5578

Filed 3-9-04; 8:45 am]

Billing code 3195-01-P